DEPARTMENT OF LABOR

Employment and Training Administration

[TA-W-64,731]

Chrysler, LLC, Mount Elliott Tool and Die, Including On-Site Leased Workers From Modern Professional Services, TAC Automotive, Syncreon, CSC, Resource Tech, and Caravan Knight Facilities Management LLC, Detroit, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on January 29, 2009, applicable to workers of Chrysler, LLC, Mount Elliott Tool and Die, including on-site leased workers from Modern Professional Services, TAC Automotive, Syncreon, CSC, and Resource Tech, Detroit, Michigan. The notice was published in the Federal Register on February 23, 2009 (74 FR 8114).

At the request of the State agency, the Department reviewed the certification for workers of the subject firm. The workers are engaged in the production of automotive dies and tooling.

New information shows that workers leased from Caravan Knight Facilities Management LLC were employed on-site at the Detroit, Michigan location of Chrysler, LLC, Mount Elliott Tool and Die. The Department has determined that these workers were sufficiently under the control of the subject firm to be considered leased workers.

Based on these findings, the Department is amending this certification to include workers leased from Caravan Knight Facilities Management LLC working on-site at the Detroit, Michigan location of Chrysler, LLC, Mount Elliott Tool and Die.

The amended notice applicable to TA-W-64,731 is hereby issued as follows:

All workers of Chrysler, LLC, Mount Elliott Tool and Die, including on-site leased workers of Modern Professional Services, TAC Automotive, Syncreon, CSC, Resource Tech and Caravan Knight Facilities Management LLC, Detroit, Michigan, who became totally or partially separated from employment on or after December 16, 2007, through January 29, 2011, are eligible to apply for adjustment assistance under Section 223 of the Trade Act of 1974, and are also eligible to apply for alternative trade adjustment assistance under Section 246 of the Trade Act of 1974.

Signed at Washington, DC, this 4th day of March 2010.
Richard Church,
Certifying Officer, Division of Trade Adjustment Assistance.

[FR Doc. 2010-5337 Filed 3-11-10; 8:45 am]

BILLING CODE 4510-FN-P